DEPARTMENT OF HOMELAND SECURITY

[Docket No. DHS-2011-0106]

President's National Security Telecommunications Advisory Committee

AGENCY: National Protection and Programs Directorate, DHS.

ACTION: Committee Management; Notice of an Open Federal Advisory Committee Meeting.

SUMMARY: The President's National Security Telecommunications Advisory Committee (NSTAC) will meet on Thursday, December 8, 2011. The meeting will be open to the public.

DATES: The NSTAC will meet Thursday, December 8, 2011, from 9 a.m. to 1:30 p.m. Please note that the meeting may close early if the committee has completed its business.

ADDRESSES: The meeting will be held at the Department of Homeland Security's U.S. Immigration and Customs Enforcement (ICE) facility located at 500 12th Street SW., Washington, DC 20024. For access to the facility, contact Ms. Deirdre Gallop-Anderson at (703) 235-4282 or by email at deirdre.gallop-anderson@dhs.gov by 5 p.m. on December 2, 2011.

For information on facilities or services for individuals with disabilities or to request special assistance at the meeting, contact Deirdre Gallop-Anderson as soon as possible.

To facilitate public participation, we are inviting public comment on the issues to be considered by the committee as listed in the SUPPLEMENTARY INFORMATION section below. Associated briefing materials that will be discussed during the meeting will be available at http://www.ncs.gov/nstac for review by Friday, December 2, 2011. Comments must be received in writing by the Acting Director of the National Communications System no later than January 8, 2012, and must be identified by Federal Register Docket Number DHS-2011-0106 and may be submitted by any one of the following methods:

• Federal eRulemaking Portal: http://www.regulations.gov. Follow the instructions for submitting written comments.

• Email: NSTAC@hq.dhs.gov. Include the docket number in the subject line of the email message.

• Fax: (703) 235-4981

• Mail: Acting Director, National Communications System, National Protection and Programs Directorate, Department of Homeland Security, 245 Murray Lane, Mail Stop 0615, Arlington, VA 20598-0615.

Instructions: All written submissions received must include the words “Department of Homeland Security” and the docket number for this action. Comments received will be posted without alteration at www.regulations.gov, including any personal information provided.

Docket: For access to the docket, background documents or comments received by the NSTAC, go to www.regulations.gov.

A public comment period will be held during the meeting on December 8, 2011, from 1:10 p.m. to 1:25 p.m. Speakers are required to register in advance in order to comment and are requested to limit their comments to three minutes. Speakers will be taken in order of registration, with the understanding that not all registered speakers may be accommodated within the allotted time. Please note that the public comment period may end before the time indicated, following the last call for comments. Contact Ms. Deirdre Gallop-Anderson at (703) 235-4282 or by email at deirdre.gallop-anderson@dhs.gov by 5 p.m. December 2, 2011, to register as a speaker.

FOR FURTHER INFORMATION CONTACT: Allen F. Woodhouse, NSTAC Designated Federal Officer, Department of Homeland Security, telephone (703) 235-4214.

SUPPLEMENTARY INFORMATION: Notice of this meeting is given under the Federal Advisory Committee Act, 5 U.S.C. App. (Pub. L. 92-463). The NSTAC advises the President on matters related to national security and emergency preparedness (NS/EP) telecommunications policy.

During the meeting, NSTAC members will receive feedback from the Department of Homeland Security and the Executive Office of the President regarding ongoing NSTAC recommendations. They will also receive an update from the Cloud Computing Subcommittee, and receive an update on the National Public Safety Broadband Network Subcommittee scoping effort. Additionally, there will be three discussions about Priority Services for Next Generation Networks, a Cyber Code of Conduct and current NS/EP communications issues related to risk management. The NSTAC will discuss options for developing and deploying Next Generation Network Priority Service capabilities to ensure a seamless transition from existing circuit-switched Priority Services as the carriers transition to Internal Protocol platforms. During the session on Cyber Code of Conduct, Federal Government officials and members will discuss the issue of the potential economic impact and policy issues related to botnets and the problems they cause to computer systems, businesses, and consumers. (Botnets are a group of compromised computers that are connected to the Internet and are used for malicious purposes). This discussion will include steps to stop botnets from propagating and to remove or mitigate the malicious software where installed. The last discussion will center around industry's current risk management practices for NS/EP, how to better utilize these practices in Government to assure better response to cyber threats and how improving mechanisms for sharing threat information with industry can improve mitigation of cyber threats.

Dated: November 17, 2011.
Michael Echols,
Alternate Designated Federal Official for the NSTAC.

[FR Doc. 2011-30298 Filed 11-22-11; 8:45 am]

BILLING CODE 9110-9P-P